DEPARTMENT OF COMMERCE

International Trade Administration

[A-583-844]

Narrow Woven Ribbons With Woven Selvedge From Taiwan; Final Results of Antidumping Duty Administrative Review; 2012-2013

AGENCY: Enforcement and Compliance, International Trade Administration, Department of Commerce.

SUMMARY: On October 7, 2014, the Department of Commerce (the Department) published the Preliminary Results of the third administrative review of the antidumping duty (AD) order on narrow woven ribbons with woven selvedge (NWR) from Taiwan.¹ The review covers two producers/exporters of the subject merchandise: King Young Enterprise Co., Ltd. and its affiliates, Ethel Enterprise Co., Ltd. and Glory Young Enterprise Co., Ltd., (collectively, King Young); and Hen Hao Trading Co. Ltd. a.k.a. Taiwan Tulip Ribbons and Braids Co. Ltd. (Hen Hao). The period of review (POR) is September 1, 2012, through August 31, 2013. We gave interested parties an opportunity to comment on the Preliminary Results and, based upon our analysis of the comments, we continue to find that sales of subject merchandise to the United States have been made at prices below normal value (NV). The final dumping margins for the reviewed companies are listed below in the section entitled “Final Results of the Review.”

¹ See Narrow Woven Ribbons With Woven Selvedge From Taiwan; Preliminary Results of Antidumping Duty Administrative Review; 2012-2013, 79 FR 60449 (October 7, 2014) (Preliminary Results).

DATES: Effective date: April 13, 2015.

FOR FURTHER INFORMATION CONTACT: David Crespo or Alice Maldonado, AD/CVD Operations, Office II, Enforcement and Compliance, International Trade Administration, U.S. Department of Commerce, 14th Street and Constitution Avenue NW, Washington, DC 20230; telephone: (202) 482-3693 and (202) 482-4682, respectively.

SUPPLEMENTARY INFORMATION:

Background

On October 7, 2014, the Department published the Preliminary Results in the Federal Register. The Department conducted a sales verification of King Young at its offices in Taiwan from September 29 through October 3, 2014, and a cost verification from November 12 through 16, 2014. In January 2015, we received case briefs from Berwick Offray LLC and its wholly-owned subsidiary Lion Ribbon Company, Inc. (the petitioner), King Young, and Morex Ribbon Corp. and Papillon Ribbon & Bow Inc., importers of subject merchandise. Also in January 2015, we received rebuttal briefs from the petitioner and King Young. On January 15, 2015, the Department postponed the final results by 60 days.² The Department has conducted this administrative review in accordance with section 751 of the Tariff Act of 1930, as amended (the Act).

² See the January 15, 2015, memorandum to Gary Taverman, Associate Deputy Assistant Secretary for Antidumping and Countervailing Duty Operations through Irene Darzenta Tzafolias, Acting Director, Office II from David Crespo, Senior International Trade Compliance Analyst, entitled “Narrow Woven Ribbons with Woven Selvedge from Taiwan: Extension of Deadline for Final Results of Antidumping Duty Administrative Review.”

Scope of the Order

The merchandise subject to this order ³ covers narrow woven ribbons with woven selvedge. The merchandise subject to this order is classifiable under the harmonized tariff schedule of the United States (HTSUS) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.⁴

³ See Narrow Woven Ribbons With Woven Selvedge From Taiwan and the People's Republic of China: Amended Antidumping Duty Orders, 75 FR 56982 (Sept. 17, 2010) (Order).

⁴ For a complete description of the scope of the order, see the memorandum from James P. Maeder, Senior Director, Office I, Antidumping and Countervailing Duty Operations, to Ronald K. Lorentzen, Acting Assistant Secretary for Enforcement and Compliance, entitled, “Issues and Decision Memorandum for the Final Results of the Antidumping Duty Administrative Review on Narrow Woven Ribbons with Woven Selvedge from Taiwan (Issues and Decision Memorandum), dated concurrently with and hereby adopted by this notice.

Analysis of Comments Received

All issues raised in the case and rebuttal briefs are addressed in the Issues and Decision Memorandum. A list of the issues which parties raised and to which we respond in the Issues and Decision Memorandum is attached to this notice as Appendix I. The Issues and Decision Memorandum is a public document and is on file electronically via Enforcement and Compliance's AD and Countervailing Duty (CVD) Centralized Electronic Service System (ACCESS).⁵ ACCESS is available to registered users at http://access.trade.gov and in the Central Records Unit, room 7046 of the main Department of Commerce building. In addition, a complete version of the Issues and Decision Memorandum can be accessed directly at http://enforcement.trade.gov/frn/index.html. The signed Issues and Decision Memorandum and the electronic version of the Issues and Decision Memorandum are identical in content.

⁵ On November 24, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references in the Department's regulations can be found at 79 FR 69046 (November 20, 2014).

Changes Since the Preliminary Results

Based on our analysis of the comments received, we made changes to the margin calculations for King Young. For further discussion, see the Issues and Decision Memorandum. We made no changes to the rate assigned as adverse facts available (AFA) to Hen Hao in these final results.

Period of Review

The POR is September 1, 2012, through August 31, 2013.

Final Results of the Review

We are assigning the following dumping margins to the firms listed below:

Producer/exporter | Dumping margin (percent)
King Young Enterprise Co., Ltd./ Glory Young Enterprise Co., Ltd./ Ethel Enterprise Co., Ltd. Taiwan | 30.64
Hen Hao Trading Co. Ltd. a.k.a. Taiwan Tulip Ribbons and Braids Co. Ltd. | 137.20

Disclosure and Public Comment

We intend to disclose the calculations performed within five days of the date of publication of this notice to parties in this proceeding in accordance with 19 CFR 351.224(b).

Assessment Rates

Pursuant to section 751(a)(2)(C) of the Act, and 19 CFR 351.212(b)(1), the Department has determined, and U.S. Customs and Border Protection (CBP) shall assess, antidumping duties on all appropriate entries of subject merchandise and deposits of estimated duties, where applicable, in accordance with the final results of this review. The Department intends to issue appropriate assessment instructions directly to CBP 15 days after publication of the final results of this administrative review.

For King Young, the Department will calculate importer-specific assessment rates equal to the total amount of dumping calculated for the importer's examined sales and the total entered value of those sales. Where an importer-specific assessment rate is zero or de minimis (i.e., less than 0.5 percent), the Department will instruct CBP to liquidate these entries without regard to antidumping duties pursuant to 19 CFR 351.106(c)(2).

For Hen Hao's U.S. sales, we will base the assessment rate assigned to the corresponding entries on the AFA rate listed above.

Cash Deposit Requirements

The following deposit requirements will be effective upon publication of the notice of final results of administrative review for all shipments of the subject merchandise entered, or withdrawn from warehouse, for consumption on or after the date of publication, as provided by section 751(a)(2)(C) of the Act: 1) the cash deposit rates for Hen Hao and King Young will be equal to the dumping margins established in the final results of this administrative review; 2) for merchandise exported by manufacturers or exporters not covered in this administrative review but covered in a prior segment of the proceeding, the cash deposit rate will continue to be the company-specific rate published for the most recently-completed segment; 3) if the exporter is not a firm covered in this review, a prior review, or the original less-than-fair-value (LTFV) investigation, but the manufacturer is, the cash deposit rate will be the rate established for the most recently-completed segment of this proceeding for the manufacturer of the merchandise; and 4) the cash deposit rate for all other manufacturers or exporters will continue to be 4.37 percent, the all-others rate determined in the LTFV investigation.⁶ These cash deposit requirements, when imposed, shall remain in effect until further notice.

⁶ See Order, 75 FR 56985.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act.

Dated: April 6, 2015.
Ronald K. Lorentzen,
Acting Assistant Secretary for Enforcement and Compliance.

Appendix I

List of Topics Discussed in the Issues and Decision Memorandum

1. Summary

2. Background

3. Margin Calculations

4. Scope of the Order

5. Discussion of the Issues

a. The Appropriate Unit of Measure On Which to Base Sales and Cost Data for King Young

b. Limiting the Model Matching Methodology for Width and Length

c. Allegation That King Young's Piece Sales Are Outside the Ordinary Course of Trade

d. Allegation That King Young's Channel 3 Sales Are Outside the Ordinary Course of Trade

e. Level of Trade for King Young

f. Clerical Error in King Young's Preliminary Dumping Margin

g. King Young's Unaffiliated Suppliers' Cost of Production

h. General and Administrative Expense Ratio for King Young

i. Financial Expenses for King Young

j. Labor and Overhead Ratios for King Young

k. King Young's Allocation of Fixed Overhead Costs

l. AFA Rate for Hen Hao

6. Recommendation

[FR Doc. 2015-08436 Filed 4-10-15; 8:45 am]

BILLING CODE 3510-DS-P